DEPARTMENT OF ENERGY

National Petroleum Council Meeting

AGENCY: Office of Fossil Energy, Department of Energy.

ACTION: Notice of open meeting; correction.

SUMMARY: The Department of Energy (DOE) published in the Federal Register on September 11, 2017, a notice of an open meeting for the National Petroleum Council. The notice is being corrected for the street address. Agenda items will stay the same.

Correction

In the Federal Register of September 11, 2017, in FR DOC. 2017-19096, on page 42664, make the following corrections:

In the ADDRESSES heading, first column, first paragraph, first line, correct address to, “800 Sixteenth Street NW.,”

Issued in Washington, DC, on September 12, 2017.
LaTanya R. Butler,
Deputy Committee Management Officer.

[FR Doc. 2017-19747 Filed 9-15-17; 8:45 am]

BILLING CODE 6450-01-P